DEPARTMENT OF THE INTERIOR

Minerals Management Service

30 CFR Part 250

RIN 1010-AC32

Oil and Gas and Sulphur Operations in the Outer Continental Shelf—Postlease Operations Safety, Correction

AGENCY: Minerals Management Service (MMS), Interior.

ACTION: Correction to final regulations.

SUMMARY: This document makes a correction to the final rule titled “Postlease Operations Safety” that was published Tuesday, December 28, 1999 (64 FR 72756). We are correcting a citation error in the table of Documents Incorporated by Reference.

EFFECTIVE DATE: January 27, 2000.

FOR FURTHER INFORMATION CONTACT: Alexis London, Rules Processing Team, Engineering and Operations Division, (703) 787-1600.

SUPPLEMENTARY INFORMATION:

Background

The final regulations that are the subject of these corrections supersede 30 CFR 250, subpart A, General, regulations on the effective date and affect all operators and lessees on the Outer Continental Shelf.

The published final regulations contained a complete listing of all of the documents MMS has incorporated by reference in the 30 CFR part 250 regulations. The rulemaking also included revisions and reaffirmations of several documents. The table of documents incorporated by reference in § 250.198(e) of the published final rule contained an error, which we are correcting.

Need for Correction

As published, the final regulations contain an error which may prove to be misleading and is in need of clarification.

Correction of Publication

Accordingly, the publication on December 28, 1999, of the final regulations, which were the subject of FR Doc. 99-31869, is corrected as follows:

§ 250.198 [Corrected]

On page 72792, in the table in § 250.198(e), the entry for API RP 14H, Recommended Practice for the Installation, Maintenance and Repair of Surface Safety Valves and Underwater Safety Valves Offshore, is corrected to read as follows:

§ 250.198 Documents incorporated by reference.

* * * * *

(e) * * *

Title of document | Incorporated by reference at
* * * * * * *
API RP 14H, Recommended Practice for the Installation, Maintenance and Repair of Surface Safety Valves and Underwater Safety Valves Offshore Fourth Edition, July 1, 1994, API Stock No. G14H04. | § 250.802(d); 250.804(a)(4)
* * * * * * *

Dated: May 23, 2000.
John V. Mirabella,
Acting Chief, Engineering and Operations Division.

[FR Doc. 00-13868 Filed 6-7-00; 8:45 am]

BILLING CODE 4310-MR-P